Proclamation 9935 of September 27, 2019

National Hunting and Fishing Day, 2019

By the President of the United States of America

A Proclamation

Since our Nation's earliest days, hunting and fishing have remained enduring pastimes that are inextricably linked to the American experience. For the first American settlers and Native Americans, hunting and fishing were a means of survival. Today, hunters and anglers of all ages carry on these traditions in the spirit of rugged individualism to provide for their families and to show the next generation of Americans the splendor of the great outdoors. On National Hunting and Fishing Day, we celebrate their stewardship of the natural world, their contributions to our thriving economy, and America's abundant natural resources and beauty.

Our lands and waters have long been among our Nation's greatest national treasures, and sportsmen and women are at the forefront of conservation efforts to sustain them for centuries to come. Hunters and anglers play an integral role in maintaining the health of our Nation's ecosystems and preserving our country's private and public lands for wildlife and all those who love the outdoors. They understand the relationship between humankind and nature, and they cultivate a profound respect for our natural resources, passing on values that have strengthened generations of American families and communities.

Hunters and anglers also play a vital role in fueling our robust economy. Wildlife-related recreation supports 480,000 jobs annually, and more than 100 million Americans participated in wildlife-related activities in 2016. These people included approximately 46 million hunters and anglers, who spent more than $70 billion on equipment, travel, and other expenses, underscoring the importance of hunting and fishing to both our economy and our way of life.

To further promote participation in hunting and fishing, my Administration remains committed to facilitating greater access to the boundless opportunities afforded by our great outdoors. We have opened or expanded hunting and fishing opportunities on nearly 1.8 million acres of lands and waters. In March, I signed into law the John D. Dingell, Jr. Conservation, Management, and Recreation Act, which designates new acreage as wilderness areas and increases access to public lands and waters for hunters and anglers to enjoy. Today, we recognize the ways in which hunters and anglers embody the American values of freedom and self-reliance, and we encourage all Americans to enjoy the natural beauty of the United States.

NOW, THEREFORE, I, DONALD J. TRUMP, President of the United States of America, by virtue of the authority vested in me by the Constitution and the laws of the United States, do hereby proclaim September 28, 2019, as National Hunting and Fishing Day. I call upon the people of the United States to join me in recognizing the contributions of America's hunters and anglers, and all those who work to conserve our Nation's fish and wildlife resources.

IN WITNESS WHEREOF, I have hereunto set my hand this twenty-seventh day of September, in the year of our Lord two thousand nineteen, and of the Independence of the United States of America the two hundred and forty-fourth.

[FR Doc. 2019-21626

Filed 10-1-19; 11:15 am]

Billing code 3295-F0-P